DEPARTMENT OF DEFENSE

Department of the Army

Notice of Availability for Exclusive, Non-Exclusive, or Partially-Exclusive Licensing of an Invention Concerning Measurements of the Inhibition of Synaptic Activity (MISA) To Detect, Study and Evaluate All Active Botulinum Neurotoxin Serotypes

AGENCY: Department of the Army, DoD.

ACTION: Notice.

SUMMARY: Announcement is made of the availability for licensing of the invention set forth in U.S. Provisional Patent Application Serial No. 61/851,599, entitled “Measurements of the Inhibition of Synaptic Activity (MISA) to Detect, Study and Evaluate All Active Botulinum Neurotoxin Serotypes,” filed on March 8, 2013. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to measurements of spontaneous or evoked electrical activity in networked populations of primary neurons or stem cell-derived neurons as a rapid, sensitive assay for the presence of functional botulinum neurotoxin (BoNT) in various matrices.

Brenda S. Bowen,
Army Federal Register Liaison Officer.

[FR Doc. 2014-00283 Filed 1-10-14; 8:45 am]

BILLING CODE 3710-08-P